DEPARTMENT OF COMMERCE

National Oceanic and Atmospheric Administration

50 CFR Part 660

[RTID 0648-XC971]

Fisheries Off West Coast States; West Coast Groundfish Fisheries; Amendment 31 to the Pacific Coast Groundfish Fishery Management Plan

AGENCY: National Marine Fisheries Service (NMFS), National Oceanic and Atmospheric Administration (NOAA), Commerce.

ACTION: Notice of agency decision.

SUMMARY: NMFS announces the approval of Amendment 31 to the Pacific Fishery Management Council's (Council) Pacific Coast Groundfish Fishery Management Plan (FMP). Amendment 31 defines stocks that are in need of conservation and management, consistent with the provisions and guidelines of the Magnuson-Stevens Fishery Conservation and Management Act. Amendment 31 defines stocks for 14 species within the fishery management unit. These species were prioritized because they had stock assessments in 2021 or 2023. Amendment 31 is necessary for NMFS to make stock status determinations, which in turn will help prevent overfishing, rebuild overfished stocks, and achieve optimum yield. Amendment 31 is administrative in nature and does not change harvest levels or timing and location of fishing, nor does it revise the goals and objectives or the management frameworks of the Pacific Coast Groundfish Fishery Management Plan.

DATES: The amendment was approved on November 8, 2023.

ADDRESSES: The amended FMP is available on the Council's website (https://www.pcouncil.org), as is the final supporting analysis.

FOR FURTHER INFORMATION CONTACT: Gretchen Hanshew (206) 526-6147, email at gretchen.hanshew@noaa.gov.

SUPPLEMENTARY INFORMATION: NMFS manages the groundfish fisheries in the exclusive economic zone (EEZ) seaward of Washington, Oregon, and California under the Pacific Coast Groundfish fishery management plan (FMP). The Magnuson-Stevens Fishery Conservation and Management Act (MSA) requires that each regional fishery management council submit any FMP or plan amendment it prepares to NMFS for review and approval, disapproval, or partial approval by the Secretary of Commerce (Secretary). The MSA also requires that NMFS, upon receiving an FMP or amendment, immediately publish a notice that the FMP or amendment is available for public review and comment.

The Notice of Availability (NOA) for Amendment 31 was published in the Federal Register on August 23, 2023 (88 FR 57400), with a 60-day comment period that ended on October 22, 2023. NMFS received three comments during the public comment period on the NOA, all in support of Amendment 31. NMFS' authority for this action is limited by the MSA to approval, disapproval, or partial approval of the amendment submitted by the Council. NMFS summarized and responded to these comments under Comments and Responses, below.

NMFS determined that Amendment 31 is consistent with the MSA and other applicable laws, and the Secretary of Commerce approved Amendment 31 on November 8, 2023. The August 23, 2023 NOA (88 FR 57400) contains additional information on this action. Amendment 31 is administrative in nature and has no implementing regulations; no changes to existing Federal regulations are necessary and none were proposed.

The Council recommended stock definitions for 14 species of Pacific Coast groundfish after NMFS was unable to make stock status determinations in 2021. NMFS was unable to make stock status determinations because the “stocks” for which the Council was expecting status determinations did not exist in the FMP. Currently, the FMP has a list of 80+ species to which it pertains, and does not describe whether each species is a single stock within the fishery management unit or if it is multiple (e.g., regional) stocks. The Council prioritized a sub-set of species for stock identification in Amendment 31. These species are black, canary, copper, quillback, squarespot, vermilion, and vermilion/sunset rockfishes; Dover, petrale, and rex soles; lingcod, Pacific spiny dogfish, sablefish, and shortspine thornyhead. These species were prioritized because they were subject to stock assessments in 2021 or were subject to stock assessments in 2023. The Council considered some of the biological, socioeconomic, and fishery management trade-offs that might be expected from implementation of future management actions based on the alternative stock definitions. The Council recommended Amendment 31 at its June 20-27, 2023 meeting. Amendment 31 was transmitted to NMFS by the Council on August 14, 2023. A detailed description of Amendment 31 is included in the NOA (88 FR 57400, August 23, 2023).

Comments and Responses

NMFS received two comment letters with three comments during the 60-day public comment period on the NOA. The comments were all in favor of NMFS' approval of the amendment and included some specific rationale. The comments and NMFS's responses are presented below.

Comment 1: One commenter endorses Amendment 31 because it aims to reduce overfishing and rebuild stocks back to sustainable levels, which will help prevent food chain and food web imbalances.

Response: NMFS agrees that defining stocks with Amendment 31will aid in preventing overfishing and rebuilding overfished stocks and that this may, in turn, also provide ecosystem benefits.

Comment 2: One commenter urges approval and effective implementation of Amendment 31 to prevent overfishing which would in turn increase marine ecosystems' resiliency to climate change stressors.

Response: NMFS agrees that Amendment 31 will lead to future management decisions that improve the long-term sustainability of the managed fisheries, which may improve resilience of marine ecosystems to non-fishing climate stressors. Effective implementation of stock definitions in Amendment 31 will come in future biennial harvest specifications and management measures actions, where the best scientific information will be used to inform management of the defined stocks within the context of the FMP and the mixed stock fishery.

Comment 3: One commenter expressed that Amendment 31 is warranted because the species that are the subject of Amendment 31 have already been verified as overfished stocks by governmental and nongovernmental organizations.

Response: NMFS agrees that the Amendment 31 stock definitions for the subject species are based on the best scientific information available, and that stocks are the unit at which NMFS may determine whether an overfished status is warranted. NMFS notes that the determination whether or not a stock is overfished is the sole responsibility of NMFS, based on best scientific information available and the stocks' status determination criteria that are defined in the FMP.

Authority: 16 U.S.C. 1801 et seq.

Dated: November 9, 2023.
Samuel D. Rauch, III,
Deputy Assistant Administrator for Regulatory Programs, National Marine Fisheries Service.

[FR Doc. 2023-25268 Filed 11-15-23; 8:45 am]

BILLING CODE 3510-22-P